DEPARTMENT OF LABOR

Employment and Training Administration

Comment Request for Information Collection for Form ETA 9033 Attestation by Employers Using Alien Crewmembers for Longshore Activities in U.S. Ports (OMB Control Number 1205-0309) and Form ETA 9033-A, Attestation by Employers Using Alien Crewmembers for Longshore Activities in the State of Alaska (OMB Control Number 1205-0309)

AGENCY: Employment and Training Administration, Labor.

ACTION: Notice.

SUMMARY: The Department of Labor (DOL or Department), as part of its continuing effort to reduce paperwork and respondent burden, conducts a preclearance consultation program to provide the public and Federal agencies with an opportunity to comment on proposed and/or continuing collections of information in accordance with the Paperwork Reduction Act of 1995 [44 U.S.C. 3506(c)(2)(A)]. This program helps ensure that requested data can be provided in the desired format, reporting burden (time and financial resources) is minimized, collection instruments are clearly understood, and the impact of collection requirements on respondents can be properly assessed.

Currently, the Employment and Training Administration (ETA) is soliciting comments concerning the collection of data about Form ETA 9033 Attestation by Employers Using Alien Crewmembers for Longshore Activities in U.S. Ports and Form ETA 9033A, Attestation by Employers Using Alien Crewmembers for Longshore Activities in the State of Alaska in OMB Control Number 1205-0309. The forms and information collections in this control number expire December 31, 2016. These forms are used by employers to request permission to use foreign crewmen at U.S. Ports for longshore work. A copy of the proposed information collection request can be obtained free of charge by contacting the office listed below in the addressee section of this notice.

DATES: Written comments must be submitted to the office listed in the addresses section below on or before August 29, 2016.

ADDRESSES: Submit written comments to Brian Pasternak, National Director of Temporary Programs, Office of Foreign Labor Certification, Employment & Training Administration, U.S. Department of Labor, 200 Constitution Avenue NW., Suite 12-200, Washington, DC 20210; Telephone: (202) 513-7350 (this is not a toll-free number). Individuals with hearing or speech impairments may access the telephone number above via TTY by calling the toll-free Federal Information Relay Service at 1-877-889-5627 (TTY/TDD). Fax: 202-513-7495. Email: ETA.OFLC.Forms@dol.gov subject line: ETA-9033 and ETA-9033A. A copy of the proposed information collection request (ICR) can be obtained free of charge by contacting the office listed above.

SUPPLEMENTARY INFORMATION:

I. Background

The information collection is required by section 258 of the Immigration and Nationality Act (INA) (8 U.S.C. 1288) and 20 CFR 655 Subpart F. The INA generally prohibits the performance of longshore work by foreign crewmembers in U.S. ports. 8 U.S.C. 1288(a). However, the INA contains an exception to this general prohibition where the use of foreign crewmembers is permitted by an applicable collective bargaining agreement or otherwise is a prevailing practice at the U.S. port. 8 U.S.C. 1288(c)(1). Under the prevailing practice exception, before any employer may use foreign crewmembers to perform longshore activities in U.S. ports, it must submit an attestation to the Secretary of Labor containing the elements required by the INA. 8 U.S.C. 1288(c)(1)(B). The INA further requires that the Secretary of Labor make available for public examination in Washington, DC a list of employers that have filed attestations and for each of these employers, a copy of the employer's attestation, and accompanying documentation received by the Secretary. 8 U.S.C. 1288(c)(4). Similarly, the INA permits foreign crewmembers to perform longshore work in the State of Alaska if the employer complies with certain attestation requirements. 8 U.S.C. 1288(d).

The information is being collected to ensure compliance with the INA's requirements that employers must make certain attestations as a condition precedent to the employer's use of foreign crewmembers to perform longshore activities in the U.S. The attestations required by section 258 are collected by the Secretary of Labor through his or her designee, the Employment & Training Administration, on Form ETA 9033, Attestation by Employers Using Alien Crewmembers for Longshore Activities in U.S. Ports and Form ETA 9033A, Attestation by Employers Using Alien Crewmembers for Longshore Activities in the State of Alaska under OMB Control Number 1205-0309. The Department is not proposing any changes to the collection and is requesting a three year extension.

II. Review Focus

DOL is particularly interested in comments that:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submissions of responses.

III. Current Actions:

Type of Review: Extension Title: Form ETA 9033, Attestation by Employers Using Alien Crewmembers for Longshore Activities in U.S. Ports and Form ETA 9033A, Attestation by Employers Using Alien Crewmembers for Longshore Activities in the State of Alaska.

OMB Number: 1205-0309.

Affected Public: Business or other for-profits.

Form(s): ETA-9033 and ETA-9033A.

Total Annual Respondents: 7.

Annual Frequency: 1.

Total Annual Responses: 7.

Average Time per Response: 3 hours 15 minutes.

Estimated Total Annual Burden Hours: 23.

Total Annual Burden Cost for Respondents: $0.

Comments submitted in response to this comment request will be summarized and/or included in the request for OMB approval of the ICR; they will also become a matter of public record.

Portia Wu,
Assistant Secretary for Employment and Training, Labor.

[FR Doc. 2016-15468 Filed 6-29-16; 8:45 am]

BILLING CODE 4510-FP-P